DEPARTMENT OF LABOR

Employment and Training Administration

[TA-W-57,436]

Leviton Manufacturing Company, Inc. Hillsgrove Division, Warwick, RI; Amended Certification Regarding Eligibility To Apply for Worker Adjustment Assistance and Alternative Trade Adjustment Assistance

In accordance with section 223 of the Trade Act of 1974 (19 U.S.C. 2273) and section 246 of the Trade Act of 1974 (26 U.S.C. 2813), as amended, the Department of Labor issued a Certification of Eligibility to Apply for Worker Adjustment Assistance (TAA) and Alternative Trade Adjustment Assistance (ATAA) on July 11, 2005, applicable to all workers of Leviton Manufacturing Company, Inc., Hillsgrove Division, Warwick, Rhode Island. The notice was published in the Federal Register on August 26, 2005 (FR 70 pp. 50412 and 50415).

At the request of the State agency, the Department reviewed the certification for workers of the subject firm. The workers produce residential wiring devices.

The review shows that the Department established the June 27, 2005 impact date for worker group eligibility to apply for TAA and ATAA based on the June 26, 2005 expiration date of the previous certification issued for workers of Leviton Manufacturing Company, Inc., Hillsgrove Division in Warwick, Rhode Island (TA-W-50,350). Since the worker group was not previously certified eligible to apply for alternative trade adjustment assistance, the Department is amending the current ATAA certification to change the impact date from June 27, 2005 to June 20, 2004.

The amended notice applicable to TA-W-57,436 is hereby issued as follows:

All workers of Leviton Manufacturing Company, Inc., Hillsgrove Division, Warwick, Rhode Island, who became totally or partially separated from employment on or after June 27, 2005 through July 11, 2007, are eligible to apply for adjustment assistance under section 223 of the Trade Act of 1974; and

All workers of Leviton Manufacturing Company, Inc., Hillsgrove Division, Warwick, Rhode Island, who became totally or partially separated from employment on or after June 20, 2004, are eligible to apply for alternative trade adjustment assistance under section 246 of the Trade Act of 1974.

Signed in Washington, DC, this 3rd day of November, 2005.
Linda G. Poole,
Certifying Officer, Division of Trade Adjustment Assistance.

[FR Doc. E5-6319 Filed 11-15-05; 8:45 am]

BILLING CODE 4510-30-P